MERIT SYSTEMS PROTECTION BOARD

Sunshine Act Notice

Notice: Pursuant to the Government in the Sunshine Act (5 U.S.C. 552(b)), notice is hereby given that the Merit Systems Protection Board held a closed meeting on Friday, September 7, 2001, at 2 p.m., in the Board's conference room at 1615 M Street, NW., 6th Floor, Washington, DC 20419. In calling the meeting, the Board determined that Board business required its consideration of the agenda items on less than seven days' notice to that public; that no earlier notice of the meeting was practicable; that the public interest did not require consideration of the matters in a meeting open to public observation; and that the matters could be considered by authority of subsections (c)(10) and (c)(2) of the “Government in the Sunshine Act” (5 U.S.C. 552b(c)(10) and 5 U.S.C.b(c)(2)).

Matters Considered:

(1) MSPB FY2002-2003 Performance Plan;

(2) Status of Azdell v. Office of Personnel Management, Docket No. DC-0731-97-0367-C-1;

(3) Discussion of target group of cases (cases expected to be over 300 days old by September 30th), if any;

(4) Appreciation of efforts in accomplishing 2001 goals;

(5) Expedited Petition for Review Pilot.

Contact Person for Additional Information: Shannon McCarthy or Matthew Shannon, Office of the Clerk of the Board, (202) 653-7200.

Dated: September 7, 2001.
Robert E. Taylor,
Clerk of the Board.

[FR Doc. 01-23045 Filed 9-10-01; 2:52 pm]

BILLING CODE 7400-01-M